DEPARTMENT OF AGRICULTURE

Forest Service

Chugach National Forest; Alaska; Kenai Winter Access

AGENCY: Forest Service, USDA.

ACTION: Notice of intent to prepare an environmental\impact statement.

SUMMARY: The Chugach National Forest will prepare an environmental impact statement (EIS) for developing the Kenai winter access management plan on the Seward Ranger District. The objective of the Kenai winter access management plan is to respond to the public's need for high quality winter recreation opportunities and access in the planning area that best meets the needs of past, present and future users of the area and surrounding areas.

DATES: Comments concerning the scope of the analysis to be most helpful should be received on or before May 25, 2005. The draft environmental impact statement is expected to be completed in August 2005 and the final environmental impact statement is expected to be completed in November 2005.

ADDRESSES: Send written comments to Kenai Winter Access, Chugach National Forest, 3301 C St., Suite 300, Anchorage, AK 99503. Comments may also be submitted by facsimile to (907) 743-9476 or by e-mail to comments-alaska-chugach@fs.fed.us.

FOR FURTHER INFORMATION CONTACT: Rebecca Talbott, Public Affairs Staff Officer, Chugach National Forest, 3301 C St., Suite 300, Anchorage, AK 99503, (907) 743-9500. Sharon Randall, Planning Staff Officer, Chugach National Forest, 3301 C St., Suite 300, Anchorage, AK 99503, (907) 743-9500.

SUPPLEMENTARY INFORMATION: The Forest Service is seeking information, comments and assistance from individuals, organizations, tribal governments, and Federal, State, and local agencies that are interested or may be affected by the proposed action. The public is invited to help identify issues and define the range of alternatives to be considered in the EIS. The range of alternatives will be based on the identification of significant public issues, management concerns, resource management opportunities, and plan decisions specific to Access Management within the scope of the Chugach National Forest Land and Resource Management Plan 2002 Revision (Forest Plan). Written comments identifying issues for analysis and range of alternatives are encouraged.

Background

On May 31, 2002, the Alaska (Region 10) Regional Forester signed the Record of Decision for the Revised Chugach Forest Plan. A number of individuals and organizations then appealed various parts of the decision, including the closure of the Carter-Crescent Lakes area to winter motorized access.

In January 2003, after reviewing the appeals and the administrative record, the Regional Forester withdrew that portion of the decision closing the Carter-Crescent Lakes area to winter motorized access. By withdrawing the decision for the Carter-Crescent Lakes area, management direction for that area remained as it was in the 1984 Chugach National Forest Plan. Under the 1984 Forest Plan, the area is open to winter motorized activities from December 1 to April 30 once there is adequate snow to protect resources.

The Regional Forester also directed the Chugach National Forest to reconsider this portion of the decision at the local level, with involvement from all interested parties, to make sure that the site-specific impacts of any closure were fully disclosed and that reasonable alternatives were considered.

As directed by the Regional Forester, the Forest Service began a site-specific analysis for the Carter-Crescent Lakes Area in late February and March of 2004. Several open house listening sessions specific to the Carter-Crescent Lakes area were held during that time in Anchorage, Seward, Cooper Landing, Moose Pass and Soldotna.

Many of the public comments received during that period suggested that in order to find a workable long-term solution to winter recreation access, the Forest Service would need to expand the planning area beyond just the Carter-Crescent Lakes area. As stated in many of the comments, an expansion of the planning area would allow greater creative management options such as considering timing, shared-use of split-season access periods across Forest Service lands on the Seward Ranger District.

After further consideration, the Chugach National Forest asked for and received approval from the Regional Forester to expand the planning area outside of the Carter-Crescent Lakes area.

Purpose and Need for Action

Due to the withdrawal of the Forest Plan decision regarding winter motorized recreation access for the Carter-Crescent Lakes area, the Forest needs to address how and where to manage for motorized and nonmotorized winter access. The purpose is to have a clear and concise plan for winter access on the Seward Ranger District that addresses the needs for forest management, public access and recreation use.

Proposed Action

The Chugach National Forest proposes to develop a winter access management plan for the Seward Ranger District by next winter season 2005/2006 in order to respond to the withdrawal of the 2002 Forest Plan decision regarding winter motorized access for the Carter-Crescent Lakes area.

Possible Alternatives

The range of alternatives considered will address significant issues and fulfill the purpose and need. A reasonable range of alternatives will be evaluated. Rationale will be given for any alternative(s) eliminated from detailed consideration. Alternatives will represent differing management scenarios based on quality and quantity of travel.

A “no-action alternative” is required by law. The no-action alternative under this analysis will assume winter motorized recreation access direction as described under the 2002 Forest Plan, except for the Carter-Crescent area which would continue to be managed for winter motorized recreation access as described under the 1984 Forest Plan. Additional alternatives will provide a range of ways to address and respond to public issues, management concerns and resource opportunities identified during the collaborative learning and scoping process.

Responsible Official: Joe Meade, Forest Supervisor, Chugach National Forest, 3301 C St., Suite 300, Anchorage, AK 99503, (907) 743-9500.

Nature of Decision To Be Made

The Forest Supervisor, as Responsible Official, may decide to (1) select the proposed action, (2) select one of the alternatives, (3) select one of the alternatives after modifying the alternative with additional mitigating measures or combinations of activities from other alternatives, or (4) select the no-action alternative. The decisions to be made within each of the alternatives will include whether an area is open, restricted, or closed to certain winter uses.

Scoping Process

The Forest Service accepted comments on this issue in February and March 2004 when scoping began for the Carter-Crescent Lakes area environmental analysis. Since then the project area has expanded to include the entire Seward Ranger District. In February 2005, a Collaborative Learning approach designed to facilitate open communication and idea sharing with local communities was implemented. This has been done via public workshops in order to develop management scenarios that may lead to a range of alternatives to be analyzed. Seven public workshops were held between February and April 2005 in the communities of Anchorage, Moose Pass, Seward and Soldotna.

Information about future public meetings will be announced in mailings, area media, and on the Chugach National Forest Internet site at http://www.fs.fed.us./r10/chugach.

Comment Requested

This notice of intent continues the scoping process which guides the development of the environmental impact statement. Comments received in response to this notice and previous request for comments, including names and addresses when provided, will become a matter of the public record available for inspection and copying.

All submissions from organizations and business, and from individuals identifying themselves as representatives or officials of organizations or businesses, will be available for public inspection in their entirety. Comments submitted anonymously will be accepted and considered; however, those who submit anonymous comments will not have standing to appeal the subsequent decision under 36 CFR part 215. Upon completion of the Draft EIS, the document will be provided to the public for review and comment. Comments and Forest Service responses will be responded to in the Final EIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental quality Regulations for implementing the procedural provisions of the National Environmental Policy Act at 40 CFR 1503.3 in addressing these points.

Comments received, including the names and addresses of those who comment, will be considered part of the public record and will be available for public inspection.

(Authority: 40 CFR 1501.7 and 1508.22; Forest Service Handbook 1909.15, Section 21)
Dated: April 20, 2005.
Joe L. Meade,
Forest Supervisor.

[FR Doc. 05-8400 Filed 4-26-05; 8:45 am]

BILLING CODE 3410-11-M